ENVIRONMENTAL PROTECTION AGENCY

[EPA-HQ-OW-2004-0019; FRL-9912-94-OW]

Extension of Request for Scientific Views for External Peer Review Draft Aquatic Life Ambient Water Quality Criterion for Selenium—Freshwater 2014

AGENCY: Environmental Protection Agency (EPA).

ACTION: Notice; extension of the request for scientific views.

SUMMARY: The Environmental Protection Agency (EPA) is re-opening the comment period for the external peer review draft aquatic life ambient water quality criterion for selenium announced in a previous notice entitled “External Peer Review Draft Aquatic Life Ambient Water Quality Criterion for Selenium—Freshwater 2014.” In response to stakeholder requests, the EPA is extending the period of time in which the Agency will accept scientific views for an additional 30 days.

DATES: Scientific views must be received on or before July 28, 2014. Scientific views postmarked after this date may not receive the same consideration.

The comment period was originally scheduled to end on June 13, 2014.

ADDRESSES: Submit your scientific views, identified by Docket ID No. EPA-HQ-OW-2004-0019, by one of the following methods:

• www.regulations.gov: Follow the on-line instructions for submitting comments.

• Email: ow-docket@epa.gov. Attention Docket No. EPA-HQ-OW-2004-0019.

• Mail: EPA Water Docket, Environmental Protection Agency, Mailcode: 2822-IT, 1200 Pennsylvania Ave. NW., Washington, DC 20460. Attention Docket No. EPA-HQ-OW-2004-0019. Please include a total of two copies (including references).

• Hand Delivery: EPA Water Docket, EPA Docket Center, William Jefferson Clinton West Building, Room 3334, 1301 Constitution Avenue NW., Washington, DC 20004, Docket No. EPA-HQ-OW-2004-0019. Such deliveries are only accepted during the Docket's normal hours of operation, and special arrangements should be made for deliveries of boxed information.

Instructions: EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to Section III of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA-HQ-OW-2004-0019 Docket, EPA/DC, William Jefferson Clinton Building West, Room 3334, 1301 Constitution Ave. NW., Washington, DC. The Public Reading Room is open from 8:30 a.m. to 4:30 p.m., Monday through Friday, excluding legal holidays. The telephone number for the Public Reading Room is (202) 566-1744, and the telephone number for the EPA Water Docket is (202) 566-2426.

FOR FURTHER INFORMATION CONTACT: Kathryn Gallagher at U.S. EPA, Office of Water, Health and Ecological Criteria Division (4304T), 1200 Pennsylvania Avenue NW., Washington, DC 20460; telephone: (202) 564-1398; or email: gallagher.kathryn@epa.gov.

SUPPLEMENTARY INFORMATION: On May 14, 2014, the EPA announced the availability of the external peer review draft national recommended aquatic life water quality criterion for selenium in a previous notice entitled “External Peer Review Draft Aquatic Life Ambient Water Quality Criterion for Selenium—Freshwater 2014” in the Federal Register (79 FR 27601). EPA's recommended aquatic life water quality criteria provide technical information for states and authorized tribes to adopt water quality standards under the Clean Water Act to protect aquatic life.

EPA is re-opening the public comment period of the External Peer Review Draft Aquatic Life Ambient Water Quality Criterion for Selenium—Freshwater 2014 (EPA-822-P-14-001). The original comment deadline was June 13, 2014. This action re-opens the comment period for 30 days. Written scientific views must now be received by July 28, 2014. This external peer review draft criterion document does not represent and should not be construed to represent any final EPA policy, viewpoint, or determination.

Following closure of the public comment period, an EPA contractor will organize and conduct an independent expert external letter peer review of the draft criterion document. Public comments will be made available to the peer reviewers for consideration during their review. Following peer review, EPA will consider the peer reviewer and public comments, and revise the document as necessary. EPA will then publish a Federal Register notice announcing the availability of the draft proposed selenium criterion and soliciting scientific views from the public. EPA will then revise the document as necessary and issue a final updated selenium criterion document.

Dated: June 18, 2014.
Elizabeth Southerland,
Director, Office of Science and Technology.

[FR Doc. 2014-14995 Filed 6-25-14; 8:45 am]

BILLING CODE 6560-50-P